DEPARTMENT OF THE TREASURY

Internal Revenue Service

Agency Collection Activities; Requesting Comments on Certified Professional Employer Organization (CPEO) Program

AGENCY: Internal Revenue Service (IRS), Treasury.

ACTION: Notice and request for comments.

SUMMARY: The Internal Revenue Service, as part of its continuing effort to reduce paperwork and respondent burden, invites the general public and other Federal agencies to take this opportunity to comment on proposed and/or continuing information collections, as required by the Paperwork Reduction Act of 1995. The IRS is soliciting comments concerning CPEO online system Identity Verification Application, Responsible Individual Personal Attestation (RIPA), Certified Professional Employer Organization Application, Form 14751, Form 8973, and TD 9860.

DATES: Written comments should be received on or before April 22, 2024 to be assured of consideration.

ADDRESSES: Direct all written comments to Andres Garcia, Internal Revenue Service, Room 6526, 1111 Constitution Avenue NW, Washington, DC 20224, or by email to pra.comments@irs.gov. Include “OMB Control No. 1545-2266” in the subject line of the message.

FOR FURTHER INFORMATION CONTACT: Requests for additional information or copies of this collection should be directed to Jon Callahan, (737) 800-7639, at Internal Revenue Service, Room 6526, 1111 Constitution Avenue NW, Washington, DC 20224, or through email at jon.r.callahan@irs.gov.

SUPPLEMENTARY INFORMATION: The IRS is currently seeking comments concerning the following information collection tools, reporting, and record-keeping requirements:

Title: Certified Professional Employer Organization (CPEO) Forms.

OMB Number: 1545-2266.

Form Name/Number: Identity Verification Application, Responsible Individual Personal Attestation (RIPA), Certified Professional Employer Organization Application, Form 14751, and Form 8973.

Regulation Project Number: TD 9860.

Abstract: Section 206 of the Achieving a Better Life Experience (ABLE) Act passed Dec. 19, 2014) created the Certified Professional Employer Organization (CPEO) designation. The application, attestation and supporting information is used by the IRS to qualify professional employer organizations to become and remain a Certified Professional Employer Organization, which entitles them to certain tax benefits. This certification is renewed annually and the CPEO will submit annual and quarterly financial statements in addition to supporting documentation. Responsible individuals will submit annual attestation forms and fingerprint cards. The Identity Verification Application, Responsible Individual Personal Attestation (RIPA), Certified Professional Employer Organization Application, Form 14751, Certified Professional Employer Organization Surety Bond, Form 8973, Certified Professional Employer Organization/Customer Reporting Agreement, and TD 9860, Certified Professional Employer Organizations, will only be used by program applicants and related responsible individuals.

Current Actions: There are changes to the existing collection. Form 14737 and Form 14737-A have been replaced by the CPEO online system.

Type of Review: Revision of a currently approved collection.

Affected Public: Business or other for-profit organizations & Individuals.

Identity Verification Application:

Estimated Number of Respondents: 565.

Estimated Time per Respondent: 15 minutes.

Estimated Total Annual Burden Hours: 5,141.

Responsible Individual Personal Attestation (RIPA):

Estimated Number of Respondents: 565.

Estimated Time per Respondent: 40 hours.

Estimated Total Annual Burden Hours: 22,600.

Certified Professional Employer Organization Application:

Estimated Number of Respondents: 120.

Estimated Time per Respondent: 77 hours, 45 minutes.

Estimated Total Annual Burden Hours: 9,330.

Form 14751:

Estimated Number of Respondents: 170.

Estimated Time per Respondent: 2 hours.

Estimated Total Annual Burden Hours: 340.

Form 8973:

Estimated Number of Respondents: 41,350.

Estimated Time per Respondent: 1.5 hours.

Estimated Total Annual Burden Hours: 62,025.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: February 14, 2024.
Jon R. Callahan,
Senior Tax Analyst.

[FR Doc. 2024-03362 Filed 2-16-24; 8:45 am]

BILLING CODE 4830-01-P